DEPARTMENT OF COMMERCE

National Oceanic and Atmospheric Administration

Agency Information Collection Activities; Submission to the Office of Management and Budget (OMB) for Review and Approval; Comment Request; Northwest Region, Pacific Coast Groundfish Fishery: Trawl Rationalization Cost Recovery Program

AGENCY: National Oceanic & Atmospheric Administration (NOAA), Commerce.

ACTION: Notice of information collection, request for comment.

SUMMARY: The Department of Commerce, in accordance with the Paperwork Reduction Act of 1995 (PRA), invites the general public and other federal agencies to comment on proposed, and continuing information collections, which helps us assess the impact of our information collection requirements and minimize the public's reporting burden. The purpose of this notice is to allow for 60 days of public comment preceding submission of the collection to OMB.

DATES: To ensure consideration, comments regarding this proposed information collection must be received on or before November 14, 2022.

ADDRESSES: Interested persons are invited to submit written comments to Adrienne Thomas, NOAA PRA Officer, at Adrienne.thomas@noaa.gov. Please reference OMB Control Number 0648-0663 in the subject line of your comments. Do not submit Confidential Business Information or otherwise sensitive or protected information.

FOR FURTHER INFORMATION CONTACT: Requests for additional information or specific questions related to collection activities should be directed to Christopher Biegel, Cost Recovery Coordinator, NOAA Fisheries West Coast Region, 1201 Northeast Lloyd Boulevard, Suite 1100, Portland OR 97232, (503) 231-6291 or cost.recovery@noaa.gov.

SUPPLEMENTARY INFORMATION:

I. Abstract

This request is for an extension of a currently approved information collection. The Magnuson-Stevens Fishery Conservation and Management Act (MSA) authorizes and requires that the Secretary of Commerce maintain a cost recovery program to cover part of the management, data collection and analysis, and enforcement costs of the limited access privilege programs, such as the Pacific Coast Groundfish Trawl Rationalization Program (Trawl Program). Cost recovery fees may not exceed three percent of the ex-vessel value. The Trawl Program cost recovery program requires fish sellers to submit fees to fish buyers who then submit those fees to NOAA's National Marine Fisheries Service (NMFS). Fish buyers must also submit information to NMFS on the volume and value of harvested groundfish when submitting the fees. Information is collected from monthly and annual reports as well as non-payment documents when necessary.

The information collected is used to track the payment of cost recovery fees, reconcile cost recovery payments with landings data from other sources, calculate average ex-vessel values, and, if necessary, help in the resolution of non-payment issues.

This program is authorized under the Pacific coast groundfish fishery regulations, trawl rationalization cost recovery program at 50 CFR 660.115.

II. Method of Collection

Cost recovery fee payments for the Trawl Program must be submitted online through the Federal web portal Pay.gov. Annual reports may be submitted by mail or email. Payments for the Shorebased Individual Fishing Quota (IFQ) and Mothership (MS) sectors cost recovery fees are submitted online monthly through Pay.gov. The Catcher Processor sector submits cost recovery fees online yearly through Pay.gov. All payments must be made online.

The MS sector submits an annual report yearly by mail or email.

III. Data

OMB Control Number: 0648-0663.

Form Number(s): None.

Type of Review: Regular submission (extension of a current information collection).

Affected Public: Business or other for-profit organizations.

Estimated Number of Respondents: 65.

Estimated Time per Response: Cost recovery fee forms: 1 hour; Annual report: 1 hour; Failure to Pay Report: 4 hours.

Estimated Total Annual Burden Hours: 580.

Estimated Total Annual Cost to Public: $0 in recordkeeping/reporting costs.

Respondent's Obligation: Mandatory.

Legal Authority: NMFS and the Pacific Fisheries Management Council (Council) manage the groundfish fisheries in the exclusive economic zone seaward of California, Oregon, and Washington under the Pacific Coast Groundfish Fishery Management Plan (FMP). The Council prepared the FMP under the authority of the MSA, 16 U.S.C. 1801 et seq. Regulations governing United States fisheries and implementing the FMP appear at 50 CFR part 660.

IV. Request for Comments

We are soliciting public comments to permit the Department/Bureau to: (a) evaluate whether the proposed information collection is necessary for the proper functions of the Department, including whether the information will have practical utility; (b) evaluate the accuracy of our estimate of the time and cost burden for this proposed collection, including the validity of the methodology and assumptions used; (c) evaluate ways to enhance the quality, utility, and clarity of the information to be collected; and (d) minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-19706 Filed 9-12-22; 8:45 am]

BILLING CODE 3510-22-P